DEPARTMENT OF JUSTICE

Antitrust Division

Notice Pursuant to the National Cooperative Research and Production Act of 1993—Z-Wave Alliance, Inc.

Notice is hereby given that, on December 16, 2024, pursuant to section 6(a) of the National Cooperative Research and Production Act of 1993, 15 U.S.C. 4301 et seq. (the “Act”), Z-Wave Alliance, Inc. (the “Joint Venture”) filed written notifications simultaneously with the Attorney General and the Federal Trade Commission disclosing changes in its membership. The notifications were filed for the purpose of extending the Act's provisions limiting the recovery of antitrust plaintiffs to actual damages under specified circumstances. Specifically, Skyline Smart Homes, Happy Valley, OR, has been added as a party to the venture.

Also, Tong Lung Metal Industry Co., Ltd., Chiayi County, TAIWAN; Hogar Controls US LLC, Sterling, VA; Casenio AG, Berlin, GERMANY; KDDI Corporation, Tokyo, JAPAN; and Thinka BV, Amsterdam, NETHERLANDS, have withdrawn as parties to the venture.

Additionally, the following members have changed their names: Dwelo, Inc., to Level Home, Draper, UT; and Evolvere SpA Societa Benefit to ENI Plenitude S.p.A. Società Benefit, Milano, ITALY.

Furthermore, an existing member, Alarm Grid, Inc., Lighthouse Point, FL, was inadvertently reported as a withdrawing party in the filing published in the Federal Register on June 13, 2023.

Finally, the following each joined as parties to the venture on the corresponding date indicated, were inadvertently not included in the applicable notice filings: WaterX Technologies, San Diego, CA (12-7-2022); DrZWave, Hollis, NH (12-16-2022); Smartopert Kft., Szeged, HUNGARY (2-17-2023); Avigilon Corporation, Vancouver, CANADA (4-25-2023); F3 Wireless, Minneapolis, MN (5-9-2023); Sengled, Shanghai City, PEOPLE'S REPUBLIC OF CHINA (8-7-2024); Sensurance, San Antonio, TX (9-7-2023); Fortune Brands Innovations, Inc., Deerfield, IL (9-19-2023); and GN Audio A/S, Ballerup, DENMARK (12-7-2023).

No other changes have been made in either the membership or the planned activity of the venture. Membership in this venture remains open, and the Joint Venture intends to file additional written notifications disclosing all changes in membership.

On November 19, 2020, the Joint Venture filed its original notification pursuant to section 6(a) of the Act. The Department of Justice published a notice in the Federal Register pursuant to section 6(b) of the Act on December 1, 2020 (85 FR 77241).

The last notification was filed with the Department on October 6, 2024. A notice was published in the Federal Register pursuant to section 6(b) of the Act on December 2, 2024 (89 FR 95236).

Suzanne Morris,
Deputy Director Civil Enforcement Operations, Antitrust Division.

[FR Doc. 2025-02109 Filed 1-31-25; 8:45 am]

BILLING CODE 4410-11-P